DEPARTMENT OF DEFENSE

Office of the Secretary

Renewal of Department of Defense Federal Advisory Committees

AGENCY: Department of Defense (DoD), Office of the Secretary.

ACTION: Renewal of Federal Advisory Committee.

SUMMARY: Under the provisions of the Federal Advisory Committee Act of 1972, (5 U.S.C. Appendix), the Government in the Sunshine Act of 1976 (5 U.S.C. 552b), and 41 CFR 102-3.50(d), the Department of Defense gives notice that it is renewing the charter for the Defense Policy Board (hereafter referred to as the “Board”).

The Board is a discretionary Federal advisory committee that shall provide the Secretary of Defense and the Deputy Secretary of Defense, through the Under Secretary of Defense (Policy), independent, informed advice and opinion concerning matters of defense policy.

The Board shall focus on: (a) Issues central to strategic DoD planning; (b) policy implications of U.S. force structure and force modernization and on DoD's ability to execute U.S. defense strategy; (c) U.S. regional defense policies; and (d) any other research and analysis of topics raised by the Secretary of Defense, the Deputy Secretary or the Under Secretary of Defense (Policy).

The Under Secretary of Defense (Policy) may act upon the Board's advice and recommendations.

The Board shall be comprised of no more than twenty-eight members who have distinguished backgrounds in defense and national security affairs.

Board members appointed by the Secretary of Defense, who are not full-time or permanent part-time Federal employees, shall be appointed as experts and consultants under the authority of 5 U.S.C. 3109 and shall serve as special government employee members. Board members shall serve a term of two years on the Board and, with the Secretary of Defense's approval, may serve additional terms; however, the Secretary of Defense shall renew their appointments on an annual basis.

All Board members are appointed to provide advice on behalf of the government on the basis of their best judgment without representing any particular point of view and in a manner that is free from conflict of interest.

The Secretary of Defense shall select the Board's Chairperson from the membership at large. In addition, the Secretary of Defense appoints the chairpersons of the Defense Business Board and the Defense Science Board as non-voting ex-officio members of the Defense Policy Board and their appointments shall not count toward the Board's total membership.

With the exception of travel and per diem for official travel, Board members shall serve without compensation.

The Under Secretary of Defense for Policy, according to DoD policies and procedures, may appoint experts and consultants as subject matter experts under the authority of 5 U.S.C. 3109 to advise the Board or its subcommittees; these individuals do not count toward the Board's total membership nor do they have voting privileges. In addition, these subject matter experts, when appointed, shall not participate in any discussions dealing with the substantive matters before the Board or its subcommittees unless the Secretary of Defense or the Deputy Secretary of Defense specifically invites them to participate in the deliberations according to DoD policies and procedures.

With DoD approval, the Board is authorized to establish subcommittees, as necessary and consistent with its mission. These subcommittees shall operate under the provisions of the Federal Advisory Committee Act of 1972, the Government in the Sunshine Act of 1976 (5 U.S.C. 552b), and other governing Federal regulations.

Such subcommittees shall not work independently of the chartered Board, and shall report all their recommendations and advice to the Board for full deliberation and discussion.

Subcommittees have no authority to make decisions on behalf of the chartered Board; nor can they report directly to the Department of Defense or any Federal officers or employees who are not Board members.

Subcommittee members, who are not Board members, shall be appointed in the same manner as the Board members. Such individuals, if not full-time or part-time government employees, shall be appointed to serve as experts and consultants under the authority of 5 U.S.C. 3109, and serve as special government employees, whose appointments must be renewed by the Secretary of Defense on an annual basis. With the exception of travel and per diem for official travel, subcommittee members shall serve without compensation.

FOR FURTHER INFORMATION CONTACT: Jim Freeman, Deputy Advisory Committee Management Officer for the Department of Defense, 703-601-6128.

SUPPLEMENTARY INFORMATION: The Board shall meet at the call of the Board's Designated Federal Officer, in consultation with the Board's Chairperson. The estimated number of Board meetings is four per year.

In addition, the Designated Federal Officer is required to be in attendance at all Board and subcommittee meetings for the entire duration of each and every meeting; however, in the absence of the Designated Federal Officer, the Alternate Designated Federal Officer shall attend the entire duration of the Board or subcommittee meeting.

Pursuant to 41 CFR 102-3.105(j) and 102-3.140, the public or interested organizations may submit written statements to Defense Policy Board's membership about the Board's mission and functions. Written statements may be submitted at any time or in response to the stated agenda of planned meeting of Defense Policy Board.

All written statements shall be submitted to the Designated Federal Officer for the Defense Policy Board, and this individual will ensure that the written statements are provided to the membership for their consideration. Contact information for the Defense Policy Board Designated Federal Officer can be obtained from the GSA's FACA Database— https://www.fido.gov/facadatabase/public.asp.

The Designated Federal Officer, pursuant to 41 CFR 102-3.150, will announce planned meetings of the Defense Policy Board. The Designated Federal Officer, at that time, may provide additional guidance on the submission of written statements that are in response to the stated agenda for the planned meeting in question.

Dated: July 28, 2011.
Aaron Siegel,
Alternate OSD Federal Register Liaison Officer, Department of Defense.

[FR Doc. 2011-19554 Filed 8-2-11; 8:45 am]

BILLING CODE 5001-06-P